DEPARTMENT OF TRANSPORTATION

Office of the Secretary

Aviation Proceedings, Agreements Filed the Week Ending September 26, 2003

The following Agreements were filed with the Department of Transportation under the provisions of 49 U.S.C. 412 and 414. Answers may be filed within 21 days after the filing of the application.

Docket Number: OST-2003-16235.

Date Filed: September 25, 2003.

Parties: Members of the International Air Transport Association.

Subject:

Mail Vote 326,

Mail Vote 329,

PTC123 0255 dated 19 September 2003,

PTC123 0258 dated 19 September 2003 r1-r24,

Minutes: PTC123 0260 dated 26 September 2003,

Tables: PTC123 Fares 0103 dated 26 September 2003,

PTC123 Fares 0104 dated 26 September 2003,

Intended effective date: 1 April 2004.

Docket Number: OST-2003-16236.

Date Filed: September 25, 2003.

Parties: Members of the International Air Transport Association.

Subject:

Mail Votes 332 and 333,

PTC23 AFR-TC3 0212 dated 30 September 2003 r1-r40,

Intended effective date: 1 April 2004.

Docket Number: OST-2003-16237.

Date Filed: September 25, 2003.

Parties: Members of the International Air Transport Association.

Subject:

Mail Vote 334,

PTC COMP 1094 dated 26 September 2003,

General Increase Resolution 002mm (except within Europe, between USA/US Territories and Austria, Chile, Czech Republic, Finland, France (including French Guiana, French Polynesia, Guadeloupe, Martinique, New Caledonia, Reunion, Saint Pierre and Miquelon), Germany, Iceland, Italy, Korea (Rep. of), Malaysia, Netherlands, New Zealand, Panama, Scandinavia, Switzerland),

Intended effective date: 15 October 2003.

Docket Number: OST-2003-16244.

Date Filed: September 26, 2003.

Parties: Members of the International Air Transport Association.

Subject:

Mail Vote 327,

Mail Vote 328,

PTC123 0256 dated 19 September 2003,

PTC123 0257 dated 19 September 2003 r1-r14,

Minutes: PTC123 0260 dated 26 September 2003,

Tables: PTC123 Fares 0101 dated 26 September 2003,

PTC123 Fares 0102 dated 26 September 2003,

Intended effective date: 1 March 2004.

Andrea M. Jenkins,
Program Manager, Docket Operations, Federal Register Liaison.

[FR Doc. 03-25657 Filed 10-9-03; 8:45 am]

BILLING CODE 4910-62-P